FEDERAL COMMUNICATIONS COMMISSION

Radio Broadcasting Services; AM or FM Proposals To Change the Community of License

AGENCY: Federal Communications Commission.

ACTION: Notice.

SUMMARY: The following applicants filed AM or FM proposals to change the community of license: GRACE PUBLIC RADIO, Station KFKB, Facility ID 174471, BMPED-20100803AAM, From GIRARD, KS, To LA HARPE, KS; LORENZ E. PROIETTI, Station KMQS, Facility ID 166044, BPH-20100104AAK, From WHEATLAND, WY, To THE BUTTES, WY; NETWORK OF GLORY, INC., Station WJGS, Facility ID 172173, BMPED-20101012ACO, From THOMSON, GA, To NORWOOD, GA; NORTH AMERICAN BROADCASTING COMPANY, INC., Station WTDA, Facility ID 60099, BPH-20101004ACN, From WESTERVILLE, OH, To RIVERLEA, OH; SAN JOAQUIN BROADCASTING CO., Station KLVS, Facility ID 69685, BPH-20100915ABK, From STOCKTON, CA, To LIVERMORE, CA; SIERRA RADIO, INC., Station KVXX, Facility ID 31618, BPH-20101004ACX, From QUINCY, CA, To MAGALIA, CA; WIRELESS FIDELITY OF NORTH AMERICA, INC., Station WGUY, Facility ID 160465, BMP-20100927AAA, From ELLSWORTH, ME, To VEAZIE, ME.

DATES: Comments may be filed through December 27, 2010.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC 20554, telephone 1-800-378-3160 or http://www.BCPIWEB.com.

Federal Communications Commission.
James D. Bradshaw,
Deputy Chief, Audio Division, Media Bureau.

[FR Doc. 2010-27209 Filed 10-26-10; 8:45 am]

BILLING CODE 6712-01-P